DEPARTMENT OF ENERGY

Federal Energy Regulatory Commission

[Project No. 14604-000]

Green Energy Storage Corp; Notice of Preliminary Permit Application Accepted for Filing and Soliciting Comments, Motions To Intervene, and Competing Applications

On March 18, 2014, Green Energy Storage Corp filed an application for a preliminary permit, pursuant to section 4(f) of the Federal Power Act (FPA), proposing to study the feasibility of the Ajo Pumped Storage Project to be located off stream near the city of Ajo, Arizona. The sole purpose of a preliminary permit, if issued, is to grant the permit holder priority to file a license application during the permit term. A preliminary permit does not authorize the permit holder to perform any land-disturbing activities or otherwise enter upon lands or waters owned by others without the owners' express permission.

The proposed 150-megawatt closed loop pumped storage project would use the 1,200 feet of available head between a new upper reservoir and an existing open pit mine. The project consists of the following: (1) A new 35-foot-high upper dam with a total crest length of 6,000 feet, impounding an upper reservoir with a maximum storage of 1,300 acre-feet; (2) an existing open pit mine lower reservoir, with a maximum storage of 1,500 acre-feet; (3) a penstock connecting the two reservoirs consisting of a 200-foot-long, 12-foot-diameter steel pipe and a 1,150-foot-long, 12-foot-diameter vertical shaft; (4) two 75-megawatt pump/turbines; (5) a 2,200-foot-long, 14-foot-diameter draft tube, extending from the turbines to the lower reservoir; (6) a new 115-kilovolt (kV) transmission line extending about 36 miles from the project's substation to an existing 115-kV transmission line owned by Arizona Public Service; and (7) appurtenant facilities. The estimated average energy production of the project would be 400 gigawatt hours.

Applicant Contact: Charles Gresham, Green Energy Storage Company, 14747 N 87th Ln., Peoria, AZ 85381, Telephone (602) 478-9161

FERC Contact: Jim Fargo; phone: (202) 502-6095.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14604-000.

More information about this project, including a copy of the application, can be viewed or printed on the “eLibrary” link of Commission's Web site at http://www.ferc.gov/docs-filing/elibrary.asp. Enter the docket number (P-14604) in the docket number field to access the document. For assistance, contact FERC Online Support.

Dated: April 10, 2014.
Kimberly D. Bose,
Secretary.

[FR Doc. 2014-08667 Filed 4-16-14; 8:45 am]

BILLING CODE 6717-01-P